DEPARTMENT OF COMMERCE

International Trade Administration

(A-489-807)

Notice of Initiation of New Shipper Antidumping Duty Review: Certain Steel Concrete Reinforcing Bars from Turkey

AGENCY: Import Administration, International Trade Administration, Department of Commerce.

SUMMARY: The Department of Commerce (the Department) has received a request to conduct a new shipper review of the antidumping duty order on certain steel concrete reinforcing bars (rebar) from Turkey published on April 17, 1997. See Antidumping Duty Order: Certain Steel Concrete Reinforcing Bars from Turkey, 62 FR 18748 (April 17, 1997) (Rebar from Turkey Order). In accordance with section 751(a)(2)(B) of the Tariff Act of 1930, as amended (the Act), and 19 CFR 351.214(d), we are initiating an antidumping new shipper review of Ege Celik Endustrisi Sanayi ve Ticaret A.S., a producer of subject merchandise, and its affiliated export trading company, Ege Dis Ticaret A.S. (collectively “Ege Celik”).

EFFECTIVE DATE: November 15, 2006.

FOR FURTHER INFORMATION CONTACT: Irina Itkin or Alice Gibbons, AD/CVD Operations, Office 2, Import Administration, International Trade Administration, U.S. Department of Commerce, 14th Street and Constitution Avenue, NW, Washington, DC, 20230; telephone (202) 482-0656 or (202) 482-0498, respectively.

SUPPLEMENTARY INFORMATION: The Department received a timely request from Ege Celik, in accordance with 19 CFR 351.214(c), for a new shipper review of the antidumping duty order on rebar from Turkey. See Rebar from Turkey Order.

Pursuant to 19 CFR 351.214(b)(2), Ege Celik certified that it is both the exporter and producer of the subject merchandise, that it did not export subject merchandise to the United States during the period of the investigation (POI) (January 1, 1995, through December 31, 1995), and that it was not affiliated with any exporter or producer that exported the subject merchandise to the United States during the POI. Ege Celik also submitted documentation establishing the date on which its shipment of subject merchandise first entered for consumption, the volume shipped, and the date of its first sale to an unaffiliated customer in the United States, pursuant to 19 CFR 351.214(b)(2)(i).

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable under subheadings 7213.10.000 and 7214.20.000 of the Harmonized Tariff Schedule of the United States (HTSUS). The HTSUS subheadings are provided for convenience and customs purposes. The written description of the scope of this proceeding is dispositive.

Initiation of Review

In accordance with section 751(a)(2)(B) of the Act and 19 CFR 351.214(d), we are initiating a new shipper review of the antidumping duty order on rebar from Turkey produced and exported by Ege Celik. See the Memorandum from the Team to the File through James Maeder, Office Director, entitled “Initiation of AD New Shipper Review: Certain Steel Concrete Reinforcing Bars from Turkey,” dated November 2, 2006. Pursuant to 19 CFR 351.214(i), we will issue the preliminary results of this review no later than 180 days after the date on which the review is initiated, and the final results of this review no later than 90 days after the date on which the preliminary results are issued.

Pursuant to 19 CFR 351.214(g)(1)(i)(B), if a new shipper review is initiated in the month immediately following the semiannual anniversary month, the period of review will be the six-month period immediately preceding the semiannual anniversary month. Therefore, the POR for the new shipper review for Ege Celik is April 1, 2006, through September 30, 2006.

Interested parties may submit applications for disclosure under administrative protective order in accordance with 19 CFR 351.305 and 351.306.

This initiation and notice are in accordance with section 751(a)(2)(B) of the Act and 19 CFR 351.214(d).

Dated: November 7, 2006.
Stephen J. Claeys,
Deputy Assistant Secretary for Import Administration.

[FR Doc. E6-19293 Filed 11-14-06; 8:45 am]

BILLING CODE 3510-DS-S